DEPARTMENT OF VETERANS AFFAIRS

[OMB Control No. 2900-NEW]

Board of Veterans Appeals, Voice of the Veteran Appellant Surveys; Correction

AGENCY: Board of Veterans Appeals, Department of Veterans Affairs.

ACTION: Notice; correction.

SUMMARY: The Department of Veterans Affairs (VA) published an information collection notice in a Federal Register on September 6, 2013 (78 FR 54956), that contained errors. VA announced that the Board of Veterans' Affairs was announcing an opportunity for public comment on the proposed collection. We have also corrected the frequency of response that was listed as quarterly to annually. Those errors are corrected by this notice.

FOR FURTHER INFORMATION CONTACT: Crystal Rennie, Enterprise Records Service (005R1B), Department of Veterans Affairs, 810 Vermont Avenue NW., Washington, DC 20420, at (202) 632-7492 or crystal.rennie@va.gov.

Correction

In FR Doc. 2013-21699, published on September 6, 2013, at 78 FR 54956, make the following corrections.

On page 54956, in the third column, at the “AGENCY” heading, third column, remove the first instance of the word “Affairs”, and add, in its place, “Appeals”. In the “SUMMARY”, third column, remove the first instance of the word “Affairs”, and add, in its place, “Appeals”. In the “SUPPLEMENTARY INFORMATION” section, first column on page 54957, remove each instance of “VBA”, and add, in its place, “BVA”. In the “FREQUENCY OF RESPONSE” section, first column on page 54957, remove “quarterly” and add, in its place, “annually”.

Dated: September 26, 2013.
Crystal Rennie,
VA Clearance Officer, Department of Veterans Affairs.

[FR Doc. 2013-23906 Filed 9-30-13; 8:45 am]

BILLING CODE 8320-01-P